DEPARTMENT OF TRANSPORTATION

Surface Transportation Board

[STB Finance Docket No. 35014]

Suffolk & Southern Rail Road LLC—Sublease and Operation Exemption—Brookhaven Rail Terminal

Suffolk & Southern Rail Road LLC (Suffolk), a noncarrier, has filed a verified notice of exemption under 49 CFR 1150.31 to sublease from Custom Recycling LLC (Custom), a noncarrier, and to operate 1,280 feet of rail line located at the Brookhaven Rail Terminal at Yaphank, Suffolk County, NY. There are no mileposts on the line. Custom currently leases the line from Nicolia Realty LLC, also a noncarrier and owner of the line. As a result of this transaction, Suffolk will provide common carrier service over this line of railroad, which currently is being served as industry trackage by the New York & Atlantic Railway, a Class III rail carrier.¹

¹ Suffolk intends to engage an existing short line railroad to provide service over the line and notes that such carrier will file a notice of exemption for Board authority before commencing operations.

Suffolk certifies that its projected annual revenues as a result of this transaction will not exceed those that would qualify it as a Class III rail carrier and will not exceed $5 million.

The earliest this transaction may be consummated is the May 3, 2007 effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than April 26, 2007 (at least 7 days before the exemption becomes effective).

An original and 10 copies of all pleadings, referring to STB Finance Docket No. 35014, must be filed with the Surface Transportation Board, 395 E Street, SW., Washington, DC 20423-0001. In addition, a copy of each pleading must be served on John D. Heffner, John D. Heffner, PLLC, 1920 N Street, NW., Suite 800, Washington, DC 20036.

Board decisions and notices are available on our Web site at http://www.stb.dot.gov.

Decided: April 12, 2007.
By the Board, David M. Konschnik, Director, Office of Proceedings.
Vernon A. Williams,
Secretary.

[FR Doc. E7-7430 Filed 4-18-07; 8:45 am]

BILLING CODE 4915-01-P